DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons who have been removed from OFAC's List of Specially Designated Nationals and Blocked Persons (SDN List).

DATES: This action was issued on May 28, 2025. See Supplementary Information for relevant dates.

FOR FURTHER INFORMATION CONTACT: OFAC: Associate Director for Global Targeting, 202-622-2420; Assistant Director for Licensing, 202-622-2480; the Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Actions

On May 28, 2025, OFAC has determined that circumstances no longer warrant the inclusion of the following persons on the SDN List and their property and interests in property are no longer blocked pursuant to Executive Order 14024:

On May 28, 2025, OFAC removed from the SDN List the persons below, who were designated pursuant to the Foreign Narcotics Kingpin Designation Act, 21 U.S.C. 1901-1908:

Individual

1. PEREZ ALVEAR, Jesus (a.k.a. “Chucho Perez”), Guerrero, Mexico; DOB 12 Nov 1984; POB Distrito Federal, Mexico; nationality Mexico; Gender Male; R.F.C. PEAJ-841112-UD1 (Mexico); C.U.R.P. PEAJ841112HDFRLS06 (Mexico) (individual) [SDNTK] (Linked To: CARTEL DE JALISCO NUEVA GENERACION; Linked To: LOS CUINIS; Linked To: GALLISTICA DIAMANTE).

Entity

1. GALLISTICA DIAMANTE (a.k.a. GALLISTICA DIAMANTE S.A. DE C.V.; a.k.a. TICKET PREMIER), Aguascalientes, Aguascalientes, Mexico; Quinta Los Pirules Num. Ext. 182, Quinta Los Naranjos, Leon, Guanajuato 37210, Mexico; website www.ticketpremier.mx [SDNTK].

Lisa M. Palluconi,
Acting Director, Office of Foreign Assets Control.

[FR Doc. 2025-12242 Filed 6-30-25; 8:45 am]

BILLING CODE 4810-AL-P